DEPARTMENT OF THE INTERIOR

Fish and Wildlife Service

[FWS-HQ-MB-2017-N158; FF07CAFB00-178-FXFR13350700001; OMB Control Number 1018-0146]

Agency Information Collection Activities; Submission to the Office of Management and Budget for Review and Approval; Depredation Orders

AGENCY: Fish and Wildlife Service, Interior.

ACTION: Notice of information collection; request for comment.

SUMMARY: In accordance with the Paperwork Reduction Act of 1995, we, the U.S. Fish and Wildlife Service, are proposing to renew an information collection with revisions.

DATES: Interested persons are invited to submit comments on or before January 8, 2018.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: BPHC, 5275 Leesburg Pike, Falls Church, VA 22041-3803 (mail); or by email to Info_Coll@fws.gov. Please reference OMB Control Number 1018-0146 in the subject line of your comments.

FOR FURTHER INFORMATION CONTACT: To request additional information about this ICR, contact Madonna L. Baucum, Service Information Collection Clearance Officer, by email at Info_Coll@fws.gov, or by telephone at (703) 358-2503. You may also view the ICR at http://www.reginfo.gov/public/do/PRAMain.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on July 3, 2017 (82 FR 30884). We received one comment in which the commenter objected to the collection of this information, but did not specifically address the information collection requirements. We did not make any changes to our requirements as a result of that comment.

We are again soliciting comments on the proposed ICR that is described below. We are especially interested in public comment addressing the following issues: (1) Is the collection necessary to the proper functions of the Service; (2) will this information be processed and used in a timely manner; (3) is the estimate of burden accurate; (4) how might the Service enhance the quality, utility, and clarity of the information to be collected; and (5) how might the Service minimize the burden of this collection on the respondents, including through the use of information technology.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: The Migratory Bird Treaty Act (MBTA; 16 U.S.C. 703 et seq.) implements four treaties concerning migratory birds signed by the United States with Canada, Mexico, Japan, and Russia. These treaties require that we preserve most U.S. species of birds, and prohibit activities involving migratory birds, except as authorized by regulation. Under the MBTA, it is unlawful to take, possess, import, export, transport, sell, purchase, barter—or offer for sale, purchase, or barter—migratory birds or their parts, nests, or eggs, except as authorized by regulation. This information collection is associated with our regulations that implement the MBTA. We collect information concerning depredation actions taken to determine how many birds of each species are taken each year and whether the control actions are likely to affect the populations of those species.

In 2003, the Service issued regulations at 50 CFR 21.43 establishing a depredation order that authorize the take of blackbirds, cowbirds, crows, grackles, and magpies under certain circumstances. In this regulation is a depredation order that authorizes take of blackbirds, cowbirds, grackles, crows, and magpies “when found committing or about to commit depredations upon ornamental or shade trees, agricultural crops, livestock, or wildlife, or when concentrated in such numbers and manner as to constitute a health hazard or other nuisance.”

In 1974, the Service issued a regulation at 50 CFR 21.46 establishing a depredation order that authorizes the take of scrub jays and Steller's jays in Washington and Oregon under certain circumstances. This regulation imposes reporting and recordkeeping requirements. 50 CFR 21.46 authorizes take of scrub jays and Steller's jays “when found committing or about to commit serious depredations to nut crops on the premises owned or occupied by such persons.”

Reporting Requirements (50 CFR 21.43 and 21.46)—All persons or entities acting under depredation orders must provide an annual report (FWS Form 3-202-21-2143, “Annual Report—Depredation Order for Blackbirds, Cowbirds, Grackles, Magpies, and Crows” or FWS Form 3-2500, “Depredation Order for Depredating Jays in Washington and Oregon,” containing the following information:

• Species taken,

• Number of birds taken,

• Months and years in which the birds were taken,

• State(s) and county(ies) in which the birds were taken (reporting required only in the States of Washington and Oregon),

• General purpose for which the birds were taken (such as for protection of agriculture, human health and safety, property, or natural resources), and

• Disposition of non-target species (Released, sent to rehabilitation facilities, etc.).

Recordkeeping Requirements (50 CFR 13.48)—Persons and entities operating under these orders must keep accurate records to complete Forms 3-202-21-2143 and 3-2500. The records must be legibly written or reproducible in English of any taking and maintained for five years after they have ceased the activity authorized by this Order. Persons or entities who reside or are located in the United States and persons or entities conducting commercial activities in the United States who reside or are located outside the United States must maintain records at a location in the United States where the records are available for inspection.

Endangered, Threatened, and Candidate Species Take Report (50 CFR 21.43 and 50 CFR 21.46)—If attempts to trap any species under this order injure a bird of a non-target species that is federally listed as endangered or threatened, or that is a candidate for listing, the bird must delivered to a rehabilitator and must be reported by phone or email to the nearest U.S. Fish and Wildlife Service Field Office or Special Agent. Capture and disposition of all non-target migratory birds must also be reported on the annual report.

Title of Collection: Depredation Orders Under 50 CFR 21.43 and 21.46.

OMB Control Number: 1018-0146.

Form Number: FWS Forms 3-202-21-2143 and 3-2500.

Type of Review: Revision of a currently approved collection.

Respondents/Affected Public: State and Federal wildlife damage management personnel, farmers, and individuals.

Total Estimated Number of Annual Respondents: 56.

Total Estimated Number of Annual Responses: 56.

Estimated Completion Time per Response: 4 hours for annual reports and 1 hour for take reports.

Total Estimated Number of Annual Burden Hours: 209.

Respondent's Obligation: Required to obtain or retain a benefit.

Frequency of Collection: On occasion for take reports and annually for annual reports.

Total Estimated Annual Nonhour Burden Cost: None.

Respondent | Activity | Annual number of respondents | Number of submissions each | Total annual responses | Avg. time per response (hours) | Total annual burden hours *
Depredation Order Annual Report (FWS Form 3-202-21-2143) 50 CFR 21.43
Individuals | Reporting Recordkeeping | 5 | 1 | 5 | 2 2 | 10 10
Private Sector | Reporting Recordkeeping | 5 | 1 | 5 | 2 2 | 10 10
Government | Reporting Recordkeeping | 20 | 1 | 20 | 2 2 | 40 40
Subtotals: |  | 30 |  | 30 |  | 120
Depredation Order for Depredating Jays (FWS Form 3-2500) 50 CFR 21.46
Individuals | Reporting Recordkeeping | 10 | 1 | 10 | 2 2 | 20 20
Private Sector | Reporting Recordkeeping | 10 | 1 | 10 | 2 2 | 20 20
Government | Reporting Recordkeeping | 1 | 1 | 1 | 2 2 | 2 2
Subtotals: |  | 21 |  | 21 |  | 84
Endangered, Threatened, and Candidate Species Take Report 50 CFR 21.43
Individuals | Reporting | 1 | 1 | 1 | 1 | 1
Private Sector | Reporting | 1 | 1 | 1 | 1 | 1
Government | Reporting | 3 | 1 | 3 | 1 | 3
Subtotals: |  | 5 |  | 5 |  | 5
Totals: |  | 56 |  | 56 |  | 209

An agency may not conduct or sponsor and a person is not required to respond to a collection of information unless it displays a currently valid OMB control number.

The authority for this action is the Paperwork Reduction Act of 1995 (44 U.S.C. 3501 et seq.).

Dated: December 4, 2017.
Madonna L. Baucum,
Information Collection Clearance Officer, U.S. Fish and Wildlife Service.

[FR Doc. 2017-26446 Filed 12-7-17; 8:45 am]

BILLING CODE 4333-15-P